DEPARTMENT OF LABOR

Employment and Training Administration

Notice of a Change in Status of an Extended Benefit (EB) Period for the United States Virgin Islands

AGENCY: Employment and Training Administration, Labor.

ACTION: Notice.

SUMMARY: This notice announces a change in benefit period eligibility under the EB program for the Virgin Islands.

The following change has occurred since the publication of the last notice regarding the Virgin Islands' EB status:

• The Virgin Islands' 13-week insured unemployment rate for the week ending June 2, 2018, was below the 5.00 percent threshold. Therefore, the EB period for the Virgin Islands will end on June 23, 2018. The State will remain in an “off” period for a minimum of 13 weeks.

Information for Claimants

The duration of benefits payable in the EB Program, and the terms and conditions on which they are payable, are governed by the Federal-State Extended Unemployment Compensation Act of 1970, as amended, and the operating instructions issued to the states by the U.S. Department of Labor. In the case of a state ending an EB period, the State Workforce Agency will furnish a written notice to each individual who is currently filing claims for EB of the forthcoming termination of the EB period and its effect on the individual's right to EB (20 CFR 615.13 (c)).

FOR FURTHER INFORMATION CONTACT: U.S. Department of Labor, Employment and Training Administration, Office of Unemployment Insurance, Room S-4524, Attn: Anatoli Sznoluch, 200 Constitution Avenue NW, Washington, DC 20210, telephone number (202) 693-3176 (this is not a toll-free number) or by email: Sznoluch.Anatoli@dol.gov.

Rosemary Lahasky,
Deputy Assistant Secretary, Employment and Training, Labor.

[FR Doc. 2018-15910 Filed 7-24-18; 8:45 am]

BILLING CODE 4510-FT-P